DEPARTMENT OF DEFENSE

Office of the Secretary

Reserve Forces Policy Board; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Reserve Forces Policy (RFPB) will take place.

DATES: The RFPB will hold an open meeting to the public on Wednesday, September 9, 2020 from 8:55 a.m. to 12:55 p.m.

ADDRESSES: The RFPB meeting will be online using Microsoft Teams CVR and Teleconference line. To participate in the meeting, see the Meeting Accessibility section for instructions.

FOR FURTHER INFORMATION CONTACT: Alexander Sabol, (703) 681-0577 (Voice), 703-681-0002 (Facsimile), Alexander.J.Sabol.Civ@Mail.Mil (Email). Mailing address is Reserve Forces Policy Board, 5113 Leesburg Pike, Suite 601, Falls Church, VA 22041. Website: http://rfpb.defense.gov/. The most up-to-date changes to the meeting agenda can be found on the website and the Federal Register.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is to obtain, review, and evaluate information related to strategies, policies, and practices designed to improve and enhance the capabilities, efficiency, and effectiveness of the Reserve Components (RC).

Agenda: The RFPB will hold an open online meeting to the public on Wednesday, September 9, 2020 from 8:55 a.m. to 12:55 p.m. The meeting will consist of remarks to the RFPB from the following invited speakers: The Under Secretary of Defense for Personnel and Readiness will discuss the Total Force mix in a time of flat budgets, the Total Force integration policy, and current issues with the Services' recruiting; the National, and Public Service National Commission on Military, National, and Public Service will discuss the findings of facts and recommendations presented in the commission's final report to the President; the Secretary of the U.S. Air Force will discuss RC access and equipment interoperability demands to fulfill the National Defense Strategy, challenges in accounting for fully burdened Active and Reserve manpower costs in force structure decisions, and ensuring the Space Force's ability to expand in wartime with a RC structure; the Director of the Army National Guard will provide an update on the Army National Guard's readiness and vision for the future; the Commanding General, District of Columbia National Guard will discuss the DC National Guard's role in supporting Civil Authorities within the District; the Acting Assistant Secretary of Defense for Manpower and Reserve Affairs will discuss the FY 2021 National Defense Authorization Act legislations; and the Chief of National Guard Bureau will discuss the state of the National Guard and recent National Guard missions.

Meeting Accessibility: Pursuant to 5 U.S.C. 552b, as amended and 41 CFR 102-3.140 through 102-3.165, and subject to the availability of space, the meeting is open online to the public from 8:55 a.m. to 12:55 p.m. Persons desiring to participate in the meeting online or by phone are required to submit their name, organization, email and telephone contact information to COL Robert D'Alto at robert.r.dalto.mil@mail.mil not later than Friday, September 4, 2020. Specific instructions, both for online or teleconference participation in the meeting, will be provided by reply email. The meeting agenda will be available prior to the meeting on the Board's website at: http://rfpb.defense.gov/.

Written Statements: Pursuant to section 10(a)(3) of the FACA and 41 CFR 102-3.105(j) and 102-3.140, interested persons may submit written statements to the RFPB about its approved agenda or at any time on the RFPB's mission. Written statements should be submitted to the RFPB's Designated Federal Officer (DFO) at the address, email, or facsimile number listed in the FOR FURTHER INFORMATION CONTACT section. If statements pertain to a specific topic being discussed at the planned meeting, then these statements must be submitted no later than five (5) business days prior to the meeting in question. Written statements received after this date may not be provided to or considered by the RFPB until its next meeting. The DFO will review all timely submitted written statements and provide copies to all the RFPB members before the meeting that is the subject of this notice. Please note that since the RFPB operates in accordance with the provisions of the FACA, all submitted comments and public presentations will be treated as public documents and will be made available for public inspection, including, but not limited to, being posted on the RFPB's website.

Dated: August 11, 2020.
Aaron T. Siegel,
Alternate OSD Federal Register Liaison Officer, Department of Defense.

[FR Doc. 2020-17888 Filed 8-14-20; 8:45 am]

BILLING CODE 5001-06-P